DEPARTMENT OF AGRICULTURE

Forest Service

Fremont and Winema Resource Advisory Committee

AGENCY: Forest Service, USDA.

ACTION: Notice of meeting.

SUMMARY: The Fremont and Winema Resource Advisory Committee will meet in Lakeview, Oregon, for the purpose of evaluating and recommending resource management projects for funding in 2006, under the provisions of Title II of the Secure Rural Schools and Community Self-Determination Act of 2000.

DATES: The meeting will be held on June 22 and 23, 2005.

ADDRESSES: The meeting will be held at the Elk's Club located at 323 North F Street, Lakeview, Oregon 97630. Send written comments to Fremont and Winema Resource Advisory Committee, c/o USDA Forest Service, P.O. Box 67, Paisley, OR 97636, or electronically to agowan@fs.fed.us.

FOR FURTHER INFORMATION CONTACT: Amy Gowan, Designated Federal Official, c/o Klamath National Forest, 1312 Fairlane Road, Yreka, CA 96097, telephone (530) 841-4421.

SUPPLEMENTARY INFORMATION: The agenda will include a review of 2002-2005 projects recommended by the RAC, consideration of Title II project proposals for 2006 submitted by the Forest Service, the public, and other agencies, presentations by project proponents, and final recommendations for funding of fiscal year 2006 projects. All Fremont and Winema Resource Advisory Committee Meetings are open to the public. There will be a time for public input and comment. Interested citizens are encouraged to attend.

Dated: June 2, 2005.
Amy A. Gowan,
Designated Federal Official.

[FR Doc. 05-11464 Filed 6-8-05; 8:45 am]

BILLING CODE 3410-11-M